DEPARTMENT OF JUSTICE

Drug Enforcement Administration

Manufacturer of Controlled Substances; Notice of Registration

By notice dated June 19, 2001, and published in the Federal Register on July 3, 2001 (66 FR 35269), the National Center for Natural Products Research-NIDA MProject, University of Mississippi, 135 Coy Walker Complex, University, Mississippi 38677, made application to the Drug Enforcement Administration (DEA) to be registered as a bulk manufacturer of the controlled substance listed below:

Drug | Schedule
Marihuana (7360) | I
Tetrahydrocannabinols (7370) | I

The firm will cultivate marihuana for the National Institute of Drug Abuse for research approved by the Department of Health and Human Services.

No comments or objections have been received. DEA has considered the factors in Title 21, United States Code, Section 823(a) and determined that the registration of National Center for Natural Products Research-NIDA MProject to manufacture the listed controlled substances is consistent with the public interest at this time. DEA has investigated National Center for Natural Products Research-NIDA MProject to ensure that the company's registration is consistent with the public interest. This investigation included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed above is granted.

Dated: January 16, 2002.
Laura M. Nagel,
Deputy Assistant Administrator, Office of Diversion Control, Drug Enforcement Administration.

[FR Doc. 02-2082 Filed 1-28-02; 8:45 am]

BILLING CODE 4410-09-M